DEPARTMENT OF THE INTERIOR

National Park Service

[NPS-WASO-NAGPRA-NPS0038656; PPWOCRADN0-PCU00RP14.R50000]

Notice of Inventory Completion: Tennessee Department of Environment and Conservation Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects and has determined in consultation that there is a cultural affiliation between the human remains and associated funerary objects and Indian Tribes or Native Hawaiian organizations in this notice.

DATES: Repatriation of the human remains and associated funerary objects in this notice may occur on or after October 10, 2024.

ADDRESSES: Phillip R. Hodge, Tennessee Department of Environment and Conservation, Division of Archaeology (TDEC-DOA), 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing at minimum 39 individuals and associated funerary objects (AFO) consisting of one lot of faunal material.

Hampton Place (40HA146), Moccasin Bend, Hamilton County, Tennessee

Ancestral remains of at minimum 37 individuals were recovered from disturbed and looted contexts by the Chattanooga Regional Anthropological Association in 1982, transferred to TDEC-DOA in 1984, and subsequently housed at the University of Tennessee-Chattanooga from 1991-2007. For unknown reasons, the ancestral remains were temporarily transferred to the Hamilton County Medical Examiner in 2007 and then returned to TDEC-DOA that same year. A single lot of associated faunal material is commingled with the ancestral remains, and at the request of the Eastern Band of Cherokee Indians was not inventoried for the purposes of this notice. Consultation took place on May 24, June 6, and June 24, 2024. There is no known exposure to hazardous substances or treatments.

Unknown Sites, Moccasin Bend, Hamilton County, Tennessee

Ancestral remains of at minimum two individuals recovered from unknown proveniences on Moccasin Bend, Hamilton County, Tennessee. One ancestor was recovered by the Hamilton County Medical Examiner near the Blue Blazes Trail and transferred to the TDEC-DOA for repatriation in August 2020. A second individual was recovered by a private individual along the Tennessee River bankline near the Moccasin Bend Archaeological District and turned over to the Hamilton County Medical Examiner, later transferred to the National Park Service Law Enforcement at Chickamauga National Military Park, and transferred to the DOA for repatriation in August 2019. Consultation took place on May 24, June 6, and June 24, 2024. In consultation on May 24, 2024 TDEC-DOA suggested that these ancestors be included in the Eastern Band of Cherokee Indians' 2021 claim for the ancestors from 40HA146. All consulting Nations agreed to this course of action. There is no known exposure to hazardous substances or treatments.

Cultural Affiliation

Based on the information available and the results of consultation, cultural affiliation is reasonably identified by the geographical location or acquisition history of the human remains and associated funerary objects described in this notice.

Determinations

TDEC-DOA have determined that:

• The human remains described in this notice represent the physical remains of at minimum 39 individuals of Native American ancestry;

• The one lot of objects described in this inventory are reasonably believed to be directly or indirectly mortuary related;

• There is a connection between the human remains and objects from Hamilton County described in this notice and the Cherokee Nation; Eastern Band of Cherokee Indians; Poarch Band of Creek Indians; and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 10, 2024. If competing requests for repatriation are received, TDEC-DOA must determine the most appropriate requestor prior to repatriation.

Requests for joint repatriation of the human remains and associated funerary objects are considered a single request and not competing requests. TDEC-DOA is responsible for sending a copy of this notice to the Indian Tribes and Native Hawaiian organizations identified in this notice.

Authority: Native American Graves Protection and Repatriation Act, 25 U.S.C. 3003, and the implementing regulations, 43 CFR 10.10.

Dated: August 29, 2024.
Melanie O'Brien,
Manager, National NAGPRA Program.

[FR Doc. 2024-20300 Filed 9-9-24; 8:45 am]

BILLING CODE 4312-52-P